DEPARTMENT OF TRANSPORTATION

Federal Motor Carrier Safety Administration

[Docket No. FMCSA-2006-26367]

Motor Carrier Safety Advisory Committee (MCSAC): Public Meeting

AGENCY: Federal Motor Carrier Safety Administration (FMCSA), DOT.

ACTION: Notice of Meeting of Motor Carrier Safety Advisory Committee (MCSAC).

SUMMARY: FMCSA announces that MCSAC will hold a meeting on Monday -Wednesday, May 21-23, 2012. On Monday and Tuesday, May 21 and 22, MCSAC will consider ideas and concepts to address certain open recommendations of the National Transportation Safety Board (NTSB). Wednesday, May 23, will be reserved for MCSAC's Cross-Border trucking subcommittee and the Motorcoach Hours-of-Service (HOS) subcommittee. All three days of the meeting will be open to the public.

DATES: Time and Dates: The meetings will be held on Monday-Tuesday, May 21-22, 2012, from 8:30 a.m. to 5 p.m., Eastern Daylight Time (E.D.T.), and on Wednesday, May 23, 2012, from 8:30 a.m. to 3:00 p.m., E.D.T. The meetings will be held at the Hilton Alexandria Old Town, 1767 King Street, Alexandria, VA 22314 in the Washington and Jefferson Rooms on the 2nd floor. The Hilton Alexandria Old Town is located across the street from the King Street Metro station.

Copies of all MCSAC Task Statements and an agenda for the entire meeting will be made available in advance of the meeting at http://mcsac.fmcsa.dot.gov.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals With Disabilities

For information on facilities or services for individuals with disabilities or to request special assistance at the meeting, contact Elizabeth Turner at (617) 494-2068, elizabeth.turner@dot.gov, by Wednesday, May 9, 2012.

SUPPLEMENTARY INFORMATION:

I. Background

MCSAC

Section 4144 of the Safe, Accountable, Flexible, Efficient Transportation Equity Act: A Legacy for Users (SAFETEA-LU, Pub. L. 109-59, 119 Stat. 1144, August 10, 2005) required the Secretary of Transportation to establish the MCSAC. The MCSAC provides advice and recommendations to the FMCSA Administrator on motor carrier safety programs and regulations, and operates in accordance with the Federal Advisory Committee Act (FACA, 5 U.S.C. App 2).

Recommendations of the National Transportation Safety Board (NTSB)

At this meeting, the MCSAC will hear presentations and deliberate on Task 12-02, soliciting ideas, concepts, and suggestions for alternative strategies the Agency could pursue to address certain NTSB recommendations that are classified as “Open-Unacceptable.” Specifically, the Agency will focus its efforts and seek strategies to address 11 such recommendations, which relate to such issues as measuring tire pressure, inspection procedures for drivers and carriers, and ensuring that vehicles operated by motor carriers comply with the Federal Motor Vehicle Safety Standards (FMVSS) in effect on the date the vehicle was manufactured. These recommendations are as follows: H-05-003—005; H-08-013; H-09-019—020; and H-09-037—041.

Long-Haul Cross Border Trucking Pilot Program Task

During the MCSAC's March 2011 meeting, FMCSA tasked the Committee with designating a subcommittee to provide independent monitoring for the program (MCSAC Task 11-03). The subcommittee will continue its work from previous meetings.

Hours-of-Service (HOS) for Drivers of Passenger-Carrying CMVs

The MCSAC subcommittee will continue its consideration of Task 11-06, concerning ideas and concepts the Agency should consider in deciding whether to initiate a rulemaking to amend or revise the HOS requirements for drivers of passenger-carrying CMVs.

II. Meeting Participation

Oral comments from the public will be heard during the last half-hour of the meetings on Monday and Tuesday and during the last 15 minutes of the meeting on Thursday. Should all public comments be exhausted prior to the end of the specified period, the comment period will close. Members of the public may submit written comments on the topics to be considered during the meeting by Wednesday, May 16, 2012, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: May 1, 2012.
Larry W. Minor,
Associate Administrator for Policy.

[FR Doc. 2012-10932 Filed 5-4-12; 8:45 am]

BILLING CODE 4910-EX-P